DEPARTMENT OF JUSTICE

Drug Enforcement Administration

Importer of Controlled Substances Notice of Registration

By Notice dated July 19, 2006, and published in the Federal Register on July 26, 2006, (71 FR 42417), Meridian Medical Technologies, 255 Hermelin Drive, St. Louis, Missouri 63144, made application to the Drug Enforcement Administration (DEA) to be registered as an importer of Morphine (9300), a basic class of controlled substance listed in schedule II.

The company plans to import products for research experimentation or clinical use and analytical testing.

One objection was received; however, it has subsequently been withdrawn. DEA has considered the factors in 21 U.S.C. § 823(a) and § 952(a) and determined that the registration of Meridian Medical Technologies to import the basic class of controlled substances is consistent with the public interest and with United States obligations under international treaties, conventions, or protocols in effect on May 1, 1971, at this time. DEA has investigated Meridian Medical Technologies to ensure that the company's registration is consistent with the public interest. The investigation has included inspection and testing of the company's physical security systems, verification of the company's compliance with state and local laws, and a review of the company's background and history. Therefore, pursuant to 21 U.S.C. § 952(a) and § 958(a), and in accordance with 21 CFR § 1301.34, the above named company is granted registration as an importer of the basic class of controlled substances listed.

Dated: December 14, 2006.
Joseph T. Rannazzisi,
Deputy Assistant Administrator, Office of Diversion Control, Drug Enforcement Administration.

[FR Doc. E6-21895 Filed 12-21-06; 8:45 am]

BILLING CODE 4410-09-P